NATIONAL SCIENCE FOUNDATION

Advisory Committee for Social, Behavioral, and Economic Sciences; Notice of Meeting

In accordance with Federal Advisory Committee Act (Pub. L. 92-463, as amended), the National Science Foundation announces the following meeting:

Name: Advisory Committee for Social, Behavioral, and Economic Sciences (#1171).

Date/Time: May 21, 2009; 8:30 a.m. to 5:30 p.m.; May 22, 2009; 8:30 a.m. to 1 a.m.

Place: National Science Foundation, 4201 Wilson Boulevard, Stafford II, Room 555, Arlington, VA 22230.

Type of Meeting: Open.

Contact Person: Ms. Lisa Jones, Office of the Assistant Director, Directorate for Social, Behavioral, and Economic Sciences, National Science Foundation, 4201 Wilson Boulevard, Room 905, Arlington, Virginia 22230, 703-292-8700.

Summary of Minutes: May be obtained from contact person listed above.

Purpose of Meeting: To provide advice and recommendation to the National Science Foundation on major goals and policies pertaining to Social, Behavioral and Economic Sciences Directorate programs and activities.

Agenda:

Thursday

Updates and discussions on continuing activities:

• Budget process and status: FY 2009, ARRA, FY 2010.

• NSTC Report on SBE Sciences: From research to policy.

• Science of Broadening Participation.

• Reports from SBE liaisons with other Advisory Committees and possibilities for future cooperation: CEOSE, CISE, CI, ERE, GPA.

Discussion with the NSF Director.

Friday

Updates and discussion on continuing activities:

• SBE Infrastructure.

• SBE/CISE joint AC subcommittee on portfolio analysis.

Committees of Visitors: Discussion and Acceptance of Reports:

• Science of Learning Centers Program.

• Division of Behavioral and Cognitive Sciences.

• Division of Science Resource Statistics.

Planning for FY 2010 and Beyond.

Dated: April 28, 2009.
Susanne Bolton,
Committee Management Officer.

[FR Doc. E9-10027 Filed 4-30-09; 8:45 am]

BILLING CODE 7555-01-P